FEDERAL COMMUNICATIONS COMMISSION

Radio Broadcasting Services; AM or FM Proposals To Change The Community of License.

AGENCY: Federal Communications Commission.

ACTION: Notice.

SUMMARY: The following applicants filed AM or FM proposals to change the community of license: METRO NORTH COMMUNICATIONS, INC., Station WLWB, Facility ID 81813, BMPH-20101122ACG, From NEW HOLSTEIN, WI, To CHILTON, WI; DFWU, INC., Station KFXI, Facility ID 3338, BPH-20101222ABD, From MARLOW, OK, To LAWTON, OK; FISHER RADIO REGIONAL GROUP, INC., Station KQDI-FM, Facility ID 32386, BPH-20101222ABO, From GREAT FALLS, MT, To HIGHWOOD, MT; THE MONTANA RADIO COMPANY, LLC, Station KZUS, Facility ID 164132, BPH-20101222ABP, From HIGHWOOD, MT, To HELENA VALLEY NE, MT; FISHER RADIO REGIONAL GROUP, INC., Station KINX, Facility ID 83110, BPH-20101222ABQ, From GREAT FALLS, MT, To HELENA VALLEY SE, MT; MLB-RICHMOND IV, LLC, Station WBBT-FM, Facility ID 31859, BPH-20101223ABH, From CHESTERFIELD COURTHOUSE, VA, To POWHATAN, VA; MAGNOLIA RADIO CORPORATION, Station KBWT, Facility ID 166076, BMPH-20101229ABO, From SANTA ANNA, TX, To BANGS, TX; CAPSTAR TX LLC, Station WPKX, Facility ID 46965, BPH-20110104AAE, From ENFIELD, CT, To WINDSOR LOCKS, CT; RADIO LICENSE HOLDING CBC, LLC, Station WMAS-FM, Facility ID 36543, BPH-20110104AAH, From SPRINGFIELD, MA, To ENFIELD, CT; MASZKA-PACER RADIO, INC., Station WMBE, Facility ID 6649, BP-20110103ABN, From CHILTON, WI, To NEW HOLSTEIN, WI.

DATES: Comments may be filed through [Insert date 60 days after FR publication date].

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW, Room CY-B402, Washington, DC, 20554, telephone 1-800-378-3160 or http://www.BCPIWEB.com.

Federal Communications Commission.
James D. Bradshaw,
Deputy Chief, Audio Division, Media Bureau.

[FR Doc. 2011-2764 Filed 2-7-11; 8:45 am]

BILLING CODE 6712-01-P